INTERNATIONAL TRADE COMMISSION

[Investigation No. 337-TA-1418]

Certain Cochlear Implant Systems and Components Thereof; Notice of a Commission Determination Not To Review an Initial Determination Terminating the Investigation by Settlement; Termination of Investigation

AGENCY: U.S. International Trade Commission.

ACTION: Notice.

SUMMARY: Notice is hereby given that the U.S. International Trade Commission (“Commission”) has determined not to review an initial determination (“ID”) (Order No. 20) issued by the presiding administrative law judge (“ALJ”) granting the parties' joint motion to terminate the investigation on the basis of settlement. The investigation is terminated.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 23, 2024, based on a complaint filed by Advanced Bionics AG of Stafa, Switzerland and Advanced Bionics LLC of Valencia, California (collectively “Advanced Bionics”). 89 FR 77541-42 (Sept. 23, 2024). The complaint, as supplemented, alleges violations of section 337 of the Tariff Act of 1930, as amended, 19 U.S.C. 1337, in the importation into the United States, sale for importation, or sale in the United States after importation of certain cochlear implant systems and components thereof by reason of infringement of certain asserted claims of U.S. Patent Nos. 7,317,945 (“the '945 patent”) and 8,422,706 (“the '706 patent”). Id. The complaint further alleges that a domestic industry exists. Id. The Commission's notice of investigation names MED-EL Corporation, USA of Durham, North Carolina and MED-EL Elektromedizinische Gerate GmbH of Innsbruck, Austria. The Office of Unfair Import Investigations (“OUII”) was also named as a party to this investigation. Id.

On April 21, 2025, the Commission partially terminated the investigation with respect to asserted claims 3, 5-8, 15-18, and 22 of the '945 patent and asserted claims 3, 7-9, 14, 17, and 18 of the '706 patent, pursuant to Advanced Bionics's unopposed motion to withdraw the complaint for those claims under Commission Rule 210.21(a)(1), 19 CFR 210.21(a)(1). Order No. 13 (Apr. 7, 2025), unreviewed by Comm'n Notice (Apr. 21, 2025).

On May 30, 2025, the parties filed a joint motion to terminate the investigation based on a confidential settlement agreement. On June 6, 2025, OUII filed a response in support of the joint motion for termination.

On June 12, 2025, the ALJ issued the subject ID (Order No. 20) granting the parties' joint motion to terminate the investigation. The subject ID finds that, apart from the parties' confidential settlement agreement, there are no other agreements, written or oral, express or implied, between the parties concerning the subject matter of this investigation, in accordance with Commission Rule 210.21(a), (b), 19 CFR 210.21(a)(b). The subject ID also finds that termination of the specified claims of the '945 and '706 patents would not have any adverse impact on the public interest and would conserve public and private resources.

No party filed a petition for review of the subject ID.

The Commission has determined not to review the subject ID. The investigation is hereby terminated.

The Commission vote for this determination took place on July 7, 2025.

The authority for the Commission's determination is contained in section 337 of the Tariff Act of 1930, as amended (19 U.S.C. 1337), and in Part 210 of the Commission's Rules of Practice and Procedure (19 CFR part 210).

By order of the Commission.
Issued: July 7, 2025.
Lisa Barton,
Secretary to the Commission.

[FR Doc. 2025-12780 Filed 7-9-25; 8:45 am]

BILLING CODE 7020-02-P